DEPARTMENT OF TRANSPORTATION

Federal Aviation Administration

14 CFR Part 73

[Docket No. FAA-2018-0984; Airspace Docket No. 18-ASW-8]

RIN 2120-AA66

Expansion of R-3803 Restricted Area Complex; Fort Polk, LA

AGENCY: Federal Aviation Administration (FAA), DOT.

ACTION: Final rule; correction.

SUMMARY: This action corrects a final rule published in the Federal Register of July 16, 2019, that expands the R-3803 restricted area complex in central Louisiana by establishing four new restricted areas, R-3803C, R-3803D, R-3803E, and R-3803F, and makes minor technical amendments to the existing R-3803A and R-3803B legal descriptions for improved operational efficiency and administrative standardization. This action corrects a typographical error listed in the effective date of that rule.

DATES: Effective date: 0901 UTC September 12, 2019.

FOR FURTHER INFORMATION CONTACT: Colby Abbott, Airspace Policy Group, Office of Airspace Services, Federal Aviation Administration, 800 Independence Avenue SW, Washington, DC 20591; telephone (202) 267-8783.

SUPPLEMENTARY INFORMATION:

History

The FAA published a final rule in the Federal Register (84 FR 33845; July 16, 2019) for Docket No. FAA-2018-0984 expanding the R-3803 restricted area complex in central Louisiana by establishing four new restricted areas, R-3803C, R-3803D, R-3803E, and R-3803F, and making minor technical amendments to R-3803A and R-3803B; Fort Polk, LA. Subsequent to publication, the FAA identified a typographical error for the date listed in the effective date; the correct effective date is September 12, 2019. This action corrects that error.

Correction to Final Rule

Accordingly, pursuant to the authority delegated to me, Expansion of R-3803 Restricted Area Complex; Fort Polk, LA, published in the Federal Register of July 16, 2019 (84 FR 33845), FR Doc. 2019-15119, is corrected as follows:

On page 33845, in the second column, line 28, remove the text “September 13, 2019” and add in its place “September 12, 2019.”

Issued in Washington, DC, on July 22, 2019.
Rodger A. Dean Jr.,
Manager, Airspace Policy Group.

[FR Doc. 2019-15930 Filed 7-25-19; 8:45 am]

BILLING CODE 4910-13-P